FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202) 523-5793 or tradeanalysis@fmc.gov.

Agreement No.: 012087.

Title: NYK/Africa Car Carrier Mediterranean/West Africa Space Charter Agreement.

Parties: Africa Car Carrier Sal and Nippon Yusen Kaisha.

Filing Party: Patricia M. O'Neill, Esq., NYK Line (North America) Inc., 300 Lighting Way, 5th Floor, Secaucus, NJ 07094.

Synopsis: The agreement authorizes NYK to charter space to Africa Car Carrier Sal in the trade between U.S. Atlantic and Gulf Coasts ports and ports on the Mediterranean Sea and West African coast.

By order of the Federal Maritime Commission.
Dated: December 18, 2009.
Karen V. Gregory,
Secretary.

[FR Doc. E9-30521 Filed 12-22-09; 8:45 am]

BILLING CODE 6730-01-P